DEPARTMENT OF ENERGY

Federal Energy Regulatory Commission

Combined Notice of Filings #1

Take notice that the Commission received the following electric corporate filings:

Docket Numbers: EC20-14-000.

Applicants: Prairie Breeze Wind Energy II LLC, Prairie Breeze Wind Energy III LLC.

Description: Application for Authorization Under Section 203 of the Federal Power Act, et al. of Prairie Breeze Wind Energy II LLC, et al.

Filed Date: 11/5/19.

Accession Number: 20191105-5187.

Comments Due: 5 p.m. ET 11/26/19.

Take notice that the Commission received the following exempt wholesale generator filings:

Docket Numbers: EG20-22-000.

Applicants: Sun Streams 2, LLC.

Description: Notice of Self-Certification of Exempt Wholesale Generator Status of Sun Streams 2, LLC.

Filed Date: 11/5/19.

Accession Number: 20191105-5159.

Comments Due: 5 p.m. ET 11/26/19.

Docket Numbers: EG20-23-000.

Applicants: Sun Streams 4, LLC.

Description: Notice of Self-Certification of Exempt Wholesale Generator Status of Sun Streams 4, LLC.

Filed Date: 11/5/19.

Accession Number: 20191105-5161.

Comments Due: 5 p.m. ET 11/26/19.

Docket Numbers: EG20-24-000.

Applicants: Sun Streams PVS, LLC.

Description: Notice of Self-Certification of Exempt Wholesale Generator Status of Sun Streams PVS, LLC.

Filed Date: 11/5/19.

Accession Number: 20191105-5164.

Comments Due: 5 p.m. ET 11/26/19.

Docket Numbers: EG20-25-000.

Applicants: Sun Streams Expansion, LLC.

Description: Notice of Self-Certification of Exempt Wholesale Generator Status of Sun Streams Expansion, LLC.

Filed Date: 11/5/19.

Accession Number: 20191105-5167.

Comments Due: 5 p.m. ET 11/26/19.

Take notice that the Commission received the following electric rate filings:

Docket Numbers: ER10-1987-003.

Applicants: Ontario Power Generation Energy Trading, Inc.

Description: Notice of Change in Status of Ontario Power Generation Energy Trading, Inc.

Filed Date: 11/5/19.

Accession Number: 20191105-5190.

Comments Due: 5 p.m. ET 11/26/19.

Docket Numbers: ER10-2126-005.

Applicants: Idaho Power Company.

Description: Second Supplement to June 21, 2019 Updated Market Power Analysis for the Northwest Region of Idaho Power Company.

Filed Date: 11/5/19.

Accession Number: 20191105-5178.

Comments Due: 5 p.m. ET 11/26/19.

Docket Numbers: ER19-2907-001.

Applicants: ISO New England Inc., Emera Maine.

Description: Tariff Amendment: Tariff Record Reserved For Future Use to be effective 10/1/2019.

Filed Date: 11/6/19.

Accession Number: 20191106-5023.

Comments Due: 5 p.m. ET 11/27/19.

Docket Numbers: ER20-318-000.

Applicants: PJM Interconnection, L.L.C.

Description: Tariff Cancellation: Notice of Cancellation of WMPS/SA No. 4380; Queue No. AB1-043 to be effective 11/12/2019.

Filed Date: 11/5/19.

Accession Number: 20191105-5141.

Comments Due: 5 p.m. ET 11/26/19.

Docket Numbers: ER20-319-000.

Applicants: Kimball Wind LLC.

Description: Baseline eTariff Filing: Kimball Wind LLC MBR Application to be effective 11/6/2019.

Filed Date: 11/5/19.

Accession Number: 20191105-5143.

Comments Due: 5 p.m. ET 11/26/19.

Docket Numbers: ER20-320-000.

Applicants: ISO New England Inc., Emera Maine.

Description: § 205(d) Rate Filing: First Revised Amendment of TSA-EMERA-18-01 to be effective 10/1/2019.

Filed Date: 11/6/19.

Accession Number: 20191106-5024.

Comments Due: 5 p.m. ET 11/27/19.

Docket Numbers: ER20-321-000.

Applicants: Midcontinent Independent System Operator, Inc., Ameren Illinois Company.

Description: § 205(d) Rate Filing: 2019-11-06_SA 3028 Ameren IL-Prairie Power Project#19 Griggsville to be effective 1/6/2020.

Filed Date: 11/6/19.

Accession Number: 20191106-5054.

Comments Due: 5 p.m. ET 11/27/19.

Docket Numbers: ER20-322-000.

Applicants: PJM Interconnection, L.L.C.

Description: Tariff Cancellation: Notice of Cancellation of WMPA/SA No. 4381; Queue No. AB1-044 to be effective 11/12/2019.

Filed Date: 11/6/19.

Accession Number: 20191106-5065.

Comments Due: 5 p.m. ET 11/27/19.

Docket Numbers: ER20-323-000.

Applicants: Helix Ravenswood LLC, Ravenswood Development LLC.

Description: Request for Limited Waiver of Helix Ravenswood, LLC, et al.

Filed Date: 11/6/19.

Accession Number: 20191106-5082.

Comments Due: 5 p.m. ET 11/27/19.

Docket Numbers: ER20-324-000.

Applicants: PJM Interconnection, L.L.C.

Description: Tariff Cancellation: Notice of Cancellation of WMPA/SA No. 4382; Queue No. AB1-045 to be effective 11/12/2019.

Filed Date: 11/6/19.

Accession Number: 20191106-5106.

Comments Due: 5 p.m. ET 11/27/19.

Take notice that the Commission received the following public utility holding company filings:

Docket Numbers: PH20-3-000.

Applicants: Ontario Power Generation Inc.

Description: Ontario Power Generation Inc. submits FERC 65-B Waiver Notification under PH20-3.

Filed Date: 11/6/19.

Accession Number: 20191106-5104.

Comments Due: 5 p.m. ET 11/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2019.
Kimberly D. Bose,
Secretary.

[FR Doc. 2019-24634 Filed 11-12-19; 8:45 am]

BILLING CODE 6717-01-P